DEPARTMENT OF JUSTICE

Drug Enforcement Administration

[Docket No. DEA-392]

Importer of Controlled Substances Registration: STEPAN COMPANY

ACTION: Notice of registration.

SUMMARY: Stepan Company applied to be registered as an importer of a basic class of a narcotic controlled substance. The DEA grants Stepan Company registration as an importer of this controlled substance.

SUPPLEMENTARY INFORMATION: By notice dated May 1, 2014, and published in the Federal Register on May 15, 2014, FR 79 27935, Stepan Company, Natural Products Department, 100 W. Hunter Avenue, Maywood, New Jersey 07607, applied to be registered as an importer of a certain basic class of controlled substance.

The Drug Enforcement Administration (DEA) has considered the factors in 21 U.S.C. 823, 952(a) and 958(a) and determined that the registration of Stepan Company to import the basic class of controlled substance is consistent with the public interest and with United States obligations under international treaties, conventions, or protocols in effect on May 1, 1971. The DEA investigated the company's maintenance of effective controls against diversion by inspecting and testing the company's physical security systems, verifying the company's compliance with state and local laws, and reviewing the company's background and history.

Therefore, pursuant to 21 U.S.C. 952(a) and 958(a), and in accordance with 21 CFR 1301.34, the above-named company is granted registration as an importer of Coca Leaves (9040), a basic class of controlled substance listed in schedule II.

The company plans to import the listed controlled substance to manufacture bulk controlled substance for distribution to its customers.

Comments and request for hearings on applications to import narcotic raw material are not appropriate. 72 FR 3417 (January 25, 2007).

Dated: June 10, 2014.
Joseph T. Rannazzisi,
Deputy Assistant Administrator.

[FR Doc. 2014-14137 Filed 6-16-14; 8:45 am]

BILLING CODE 4410-09-P